INTERNATIONAL TRADE COMMISSION

[Investigation No. 337-TA-1012 (Consolidated Modification and Enforcement Proceeding)]

Certain Magnetic Data Storage Tapes and Cartridges Containing the Same Notice of Institution of Modification Proceeding

AGENCY: U.S. International Trade Commission.

ACTION: Notice.

SUMMARY: Notice is hereby given that the U.S. International Trade Commission has determined to institute a modification proceeding relating to the March 8, 2018 limited exclusion order and cease and desist orders issued in the above-referenced investigation.

FOR FURTHER INFORMATION CONTACT: Megan M. Valentine, Office of the General Counsel, U.S. International Trade Commission, 500 E Street SW, Washington, DC 20436, telephone (202) 708-2301. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted the original investigation on July 1, 2016, based on a complaint filed by Fujifilm Corporation of Tokyo, Japan, and Fujifilm Recording Media U.S.A., Inc. of Bedford, Massachusetts (collectively, “Fujifilm”). 81 FR 43243-44 (July 1, 2016). Pertinent to this action, the complaint alleged violations of section 337 of the Tariff Act of 1930, as amended, 19 U.S.C. 1337 (“section 337”), in the sale for importation, importation, and sale within the United States after importation of certain magnetic data storage tapes and cartridges containing the same by reason of infringement of, inter alia, claims 1, 4-9, 11 and 14 of U.S. Patent No. 6,641,891 (“the '891 patent”). The Commission's Notice of Investigation named as respondents Sony Corporation of Tokyo, Japan, Sony Corporation of America of New York, New York, and Sony Electronics Inc. of San Diego, California (collectively, “the Sony respondents”). The Office of Unfair Import Investigations (“OUII”) was also named as a party to the investigation.

On March 8, 2018, the Commission found a section 337 violation as to the '891 patent and issued a limited exclusion order (“LEO”) and cease and desist orders (“CDOs”) to each of the Sony respondents. 83 FR 11245-47 (March 14, 2018). The LEO generally prohibits the Sony respondents from importing certain magnetic data storage tapes and cartridges containing the same that infringe the '891 patent, with certain exceptions related to service and repair and verification testing. The CDOs prohibit the Sony respondents from importing, selling, marketing, advertising, distributing, transferring (except for exportation) certain magnetic data storage tapes and cartridges containing the same that infringe the '891 patent, and soliciting United States agents or distributors for these activities.

On May 9, 2018, Fujifilm filed a complaint requesting that the Commission institute a formal enforcement proceeding under Commission Rule 210.75 to investigate alleged violation of the CDOs by the Sony Respondents, as well as Sony Storage Media Solutions Corporation, Sony Storage Media Manufacturing Corporation, Sony DADC US Inc., and Sony Latin America Inc. (collectively, “Sony”). On June 13, 2018, the Commission instituted the enforcement proceeding. 83 FR 27626-27 (June 13, 2018). OUII was also named as a party in the enforcement proceeding.

On July 23, 2018, Sony filed a request for an advisory opinion and a petition for modification of the remedial orders to clarify that certain of its redesigned tape products are outside the scope of the remedial orders. On August 2, 2018, Fujifilm filed a response, opposing both Sony's request and petition.

Having examined the request and petition, as well as the supporting documents, the Commission has determined to institute a modification proceeding, pursuant to Commission Rule 210.76(b) (19 CFR. 210.76(b)), to determine whether the LEO and CDOs issued in the underlying investigation should be modified to exclude certain of Sony's redesigned tape products. The Commission has further determined to delegate the modification proceeding to the presiding administrative law judge and to consolidate that proceeding with the ongoing enforcement proceeding.

The authority for the Commission's determination is contained in section 337 of the Tariff Act of 1930, as amended (19 U.S.C. 1337), and in Part 210 of the Commission's Rules of Practice and Procedure (19 CFR part 210).

By order of the Commission.
Issued: August 17, 2018.
Lisa Barton,
Secretary to the Commission.

[FR Doc. 2018-18155 Filed 8-22-18; 8:45 am]

BILLING CODE 7020-02-P